DEPARTMENT OF HOMELAND SECURITY

Coast Guard

[Docket No. USCG-2025-0097]

Notification of the Revocation of Facility Exemptions From the Port Security Advisory

AGENCY: Coast Guard, DHS.

ACTION: Notice.

SUMMARY: The Coast Guard announces that it is revoking port facility exemptions from the Port Security Advisory for Cameroon, Iraq, and Madagascar.

DATES: The policy announced in this notice is effective on February 25, 2026.

FOR FURTHER INFORMATION CONTACT: For information about this document call or email Mr. Edward Munoz, Division Chief, International Port Security Assessments, United States Coast Guard, telephone 202-372-2122, HQS-DG-IPSProgramHQs@uscg.mil.

SUPPLEMENTARY INFORMATION:

Background and Purpose

The authority for this notice is 5 U.S.C. 552(a) (“Administrative Procedure Act”), 46 U.S.C. 70110 (“Maritime Transportation Security Act”), and Department of Homeland Security Delegation No. 0170.1(II)(97)(f). As delegated, section 70110(a) authorizes the Coast Guard to impose conditions of entry on vessels arriving in U.S. waters from ports that the Coast Guard has not found to maintain effective antiterrorism measures.

Effective antiterrorism measures require government oversight and security functions like risk assessments, drills, enforcement, and intelligence sharing cannot be delegated to individual facilities. Without proper oversight, exempted facilities may lack the necessary approvals, enforcement mechanisms, and broader security coordination, increasing vulnerabilities to the marine transportation system. Accordingly, the Coast Guard is revoking port facility exemptions for Cameroon, Iraq, and Madagascar. With this notice, the current list of countries assessed and not maintaining effective antiterrorism measures is as follows: Cambodia, Cameroon, Comoros, Cuba, Democratic People's Republic of Korea (North Korea), Equatorial Guinea, Gambia (The), Guinea-Bissau, Iran, Iraq, Libya, Madagascar, Micronesia (Federated States of), Nauru, Nigeria, Sao Tome and Principe, Seychelles, Sudan, Suriname, Syria, Timor-Leste, Venezuela, and Yemen. The current Port Security Advisory is available at: http://www.dco.uscg.mil/Our-Organization/Assistant-Commandant-for-Prevention-Policy-CG-5P/International-Domestic-Port-Assessment/.

Dated: Febuary 6, 2026.
Douglas M. Schofield,
Rear Admiral, Acting Deputy Commandant for Operations, U.S. Coast Guard.

[FR Doc. 2026-02721 Filed 2-10-26; 8:45 am]

BILLING CODE 9110-04-P